DEPARTMENT OF HEALTH AND HUMAN SERVICES

Centers for Disease Control and Prevention

[60 Day-01-54]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

The Development and Testing of a Tool to Assess the Public's Perception about People with Epilepsy—New—National Center for Chronic Disease Prevention and Health Promotion (NCCDPHP), Centers for Disease Control and Prevention (CDC).

About 2.3 million people in the U.S. have some form of epilepsy, a neurological condition in which the brain's normal electrical functions may be interrupted with bursts of electrical impulses. Epilepsy affects people of all ages, but particularly the very young and the elderly. Persons with chronic or disabling health conditions like epilepsy face myriad challenges including establishing and following a treatment regimen, developing and enacting self-management plans, and finding social support.

Compounding these challenges are the reactions and beliefs of people with whom they interact. The stigma and perceived stigma of their health condition can lead to problems with self-management of their disease and further morbidity.

The goal of this project is to develop a valid and reliable measurement tool to assess the public's perception of epilepsy and seizure disorders. This tool may shed light on the challenges in the social environment confronted by people with epilepsy and by their care givers. It will help gauge the climate of the general public and guide future epilepsy interventions. Once the tool has been developed, reliability and validity tests need to be conducted to ensure it is a scientifically rigorous instrument.

The goals of the proposed data collection are to assess the instrument's:

• Internal consistency—how well different measures of the same construct reflect that construct

• Concurrent validity—the degree to which an operation is able to predict the behavior it purports to predict

• Construct validity—the extent to which an operation measures only the defined construct and not other constructs

• Test-retest reliability—the stability of the measure over time

A random digit dial survey will be conducted with 750 respondents via computer assisted telephone interviewing (CATI) techniques. The number of respondents is sufficient to be generalizable to the U.S. population and to perform data reduction techniques such as factor analysis. The scale will be approximately 30 items and take 20 minutes to complete. Of the 750 respondents, 100 will be called back within two weeks to assess test-retest reliability. There are no costs to respondents.

Form | Type of respondents | No. of respondents per year | No. of responses per respondent | Avg. burden per response (in hours) | Total annual burden (in hours)
1 | General Public | 650 | 1 | 20/60 | 217
1 | General Public | 100 | 2 | 20/60 | 67
Total |  |  |  |  | 284

Dated: July 16, 2001.
Nancy Cheal,
Acting Associate Director for Policy, Planning and Evaluation Centers for Disease Control and Prevention.

[FR Doc. 01-18352 Filed 7-23-01; 8:45 am]

BILLING CODE 4163-18-P